DEPARTMENT OF ENERGY

10 CFR Part 430

[Docket No. EERE-2013-BT-TP-0009]

RIN 1904-AC97

Energy Conservation Program for Consumer Products: Test Procedures for Clothes Washers; Correcting Amendments

AGENCY: Office of Energy Efficiency and Renewable Energy, Department of Energy.

ACTION: Final rule; correcting amendments.

SUMMARY: On August 5, 2015, the U.S. Department of Energy (DOE) published a final rule amending the test procedures for clothes washers. This correction addresses several cross-reference numbering errors, in which the cross-references were inadvertently not updated to reflect the revised section numbering resulting from the final rule amendments. In addition, this correction republishes several amendments from the final rule that could not be incorporated into the Code of Federal Regulations (CFR) due to inaccurate amendatory instructions, and clarifies several of the amendatory instructions in the final rule to remove certain sections of the test procedures. Furthermore, this correction reinstates three sections of the clothes washer test procedure that were inadvertently removed from the CFR starting with the 2013 annual edition. Neither the errors nor the corrections in this document affect the substance of the rulemaking or any of the conclusions reached in support of either of these final rules.

DATES: Effective Date: October 16, 2015.

FOR FURTHER INFORMATION CONTACT: Mr. Bryan Berringer, U.S. Department of Energy, Office of Energy Efficiency and Renewable Energy, Building Technologies Office, Mailstop EE-5B, 1000 Independence Avenue SW., Washington, DC 20585-0121. Telephone: (202) 586-0371. Email: Bryan.Berringer@ee.doe.gov.

Mr. Eric Stas, U.S. Department of Energy, Office of the General Counsel, GC-33, 1000 Independence Avenue SW., Washington, DC 20585-0121. Telephone: (202) 586-9507. Email: Eric.Stas@hq.doe.gov.

SUPPLEMENTARY INFORMATION: DOE published a final rule in the Federal Register on August 5, 2015 (the “August 2015 final rule”), amending the test procedures for clothes washers. 80 FR 46729. In the rule, several section number cross-references were inadvertently not updated to reflect the revised section numbering resulting from the final rule amendments. These errors apply to both Appendix J1 and Appendix J2 to subpart B of 10 CFR part 430. Table 1 summarizes the affected sections and the associated corrections.

Table 1—Corrections to Section Number Cross-References
Appendix J1
Section 2.7 Section 4.2.3 Section 4.4 | Existing reference to section 3.1.5 updated to 3.1.6.
Section 3.6 | Existing reference to section 1.18 updated to 1.20.
Section 3.7.1 Section 3.7.2 | Existing reference to section 3.5.2.3 updated to 3.5.3.
Appendix J2
Section 3.8.2.6 | Existing reference to “section 6.3 of this appendix” updated to “section 7 of appendix J3 to 10 CFR part 430, subpart B.”
Section 3.8.3.2 Section 3.8.3.4 | Existing reference to “section 6.2.1 of this appendix” updated to “section 6.1 of appendix J3 to 10 CFR part 430, subpart B.”
Section 4.2.4 | Existing reference to section 3.7 updated to 3.6.
Section 4.2.5 | Existing reference to section 3.6 updated to 3.7.
Section 4.2.12 Section 4.2.13 Section 4.5 Section 4.6 | Existing reference to section 3.1.6 updated to 3.1.7.

In addition, this final rule republishes the amendments to sections 2.6.5.1 and 2.6.5.2. It also clarifies that sections 2.6.5.3 (including its subsections), 2.6.5.4, 2.6.6.1, 2.6.6.2, 2.6.7.1, and 2.6.7.2 of Appendix J1 are to be removed.

Finally, in a test procedure final rule published on March 7, 2012 (the “March 2012 final rule”), DOE amended section 3.6 of Appendix J1 and intended for sections 3.6.1 through 3.6.3 to remain unchanged. 77 FR 13888. In the January 1, 2013 version of the CFR, sections 3.6.1 through 3.6.3 of Appendix J1 were inadvertently removed. Section 3.6 requires measuring water and electrical energy consumption for the Cold Wash temperature selection using the water fill levels and test load sizes specified in sections 3.6.1 through 3.6.3. As was the case prior to the inadvertent deletion and as reinstated, sections 3.6.1 through 3.6.3 provide these specifications and also define the variables associated with each measurement. This final rule correction reinstates these sections as they appeared in the January 1, 2012 version of the CFR, except that the word “adaptive” in section 3.6.3 is changed to “automatic,” as described in the August 2015 final rule.

Procedural Issues and Regulatory Review

The regulatory reviews conducted for this rulemaking are those set forth in the March 2012 final rule and August 2015 final rule that originally codified the respective amendments to DOE's test procedures for clothes washers. The amendments in the March 2012 final rule became effective April 6, 2012, and the amendments in the August 2015 final rule became effective September 4, 2015.

Pursuant to the Administrative Procedure Act, 5 U.S.C. 553(b), DOE has determined that notice and prior opportunity for comment on this rule are unnecessary and contrary to the public interest. Neither the errors nor the corrections in this document affect the substance of the rulemakings or any of the conclusions reached in support of either of these final rules. For these reasons, DOE has also determined that there is good cause to waive the 30-day delay in effective date.

List of Subjects in 10 CFR Part 430

Administrative practice and procedure, Confidential business information, Energy conservation, Household appliances, Imports, Intergovernmental relations, Small businesses.

Issued in Washington, DC, on October 5, 2015.
Kathleen B. Hogan,
Deputy Assistant Secretary, Energy Efficiency and Renewable Energy.

For the reasons stated in the preamble, part 430 of title 10 of the Code of Federal Regulations is corrected by making the following correcting amendments:

PART 430—ENERGY CONSERVATION PROGRAM FOR CONSUMER PRODUCTS

1. The authority citation for part 430 continues to read as follows:

Authority: 42 U.S.C. 6291-6309; 28 U.S.C. 2461 note.

2. Appendix J1 to subpart B of part 430 is amended by:

a. Revising sections 2.6.5.1 and 2.6.5.2;

b. Removing sections 2.6.5.3, 2.6.5.3.1 through 2.6.5.3.6, 2.6.5.4, 2.6.6.1, 2.6.6.2, 2.6.7.1, and 2.6.7.2;

c. Revising sections 2.7, 3.6, 3.7.1, 3.7.2, 4.2.3, and 4.4; and

d. Adding sections 3.6.1, 3.6.2, and 3.6.3.

The revisions and additions read as follows:

Appendix J1 to Subpart B of Part 430—Uniform Test Method for Measuring the Energy Consumption of Automatic and Semi-Automatic Clothes Washers

* * * * *

2.6.5.1 Using the coefficients A and B calculated in Appendix J3 to 10 CFR part 430, subpart B:

RMCcorr = A × RMC + B

2.6.5.2 Substitute RMCcorr values in calculations in section 3.8 of this appendix.

* * * * *

2.7 Test Load Sizes. Maximum, minimum, and, when required, average test load sizes shall be determined using Table 5.1 of this appendix and the clothes container capacity as measured in sections 3.1.1 through 3.1.6 of this appendix. Test loads shall consist of energy test cloths, except that adjustments to the test loads to achieve proper weight can be made by the use of energy stuffer cloths with no more than 5 stuffer cloths per load.

* * * * *

3.6 “Cold Wash” (Minimum Wash Temperature Selection). Water and electrical energy consumption shall be measured for each water fill level or test load size as specified in sections 3.6.1 through 3.6.3 of this appendix for the coldest wash temperature selection available. For a clothes washer that offers two or more wash temperature settings labeled as cold, such as “Cold” and “Tap Cold,” the setting with the minimum wash temperature shall be considered the cold wash. If any of the other cold wash temperature settings add hot water to raise the wash temperature above the cold water supply temperature, as defined in section 2.3 of this appendix, those setting(s) shall be considered warm wash setting(s), as defined in section 1.20 of this appendix. If none of the cold wash temperature settings add hot water for any of the water fill levels or test load sizes required for the energy test cycle, the wash temperature setting labeled as “Cold” shall be considered the cold wash, and the other wash temperature setting(s) labeled as cold shall not be required for testing.

3.6.1 Maximum test load and water fill. Hot water consumption (Hcx), cold water consumption (Ccx), and electrical energy consumption (Ecx) shall be measured for a cold wash/cold rinse energy test cycle, with the controls set for the maximum water fill level. The maximum test load size is to be used and shall be determined per Table 5.1 of this appendix.

3.6.2 Minimum test load and water fill. Hot water consumption (Hcn), cold water consumption (Ccn), and electrical energy consumption (Ecn) shall be measured for a cold wash/cold rinse energy test cycle, with the controls set for the minimum water fill level. The minimum test load size is to be used and shall be determined per Table 5.1 of this appendix.

3.6.3 Average test load and water fill. For clothes washers with an automatic water fill control system, measure the values for hot water consumption (Hca), cold water consumption (Cca), and electrical energy consumption (Eca) for a cold wash/cold rinse energy test cycle, with an average test load size as determined per Table 5.1 of this appendix.

* * * * *

3.7.1 For the rinse only, measure the amount of hot water consumed by the clothes washer including all deep and spray rinses, for the maximum (Rx), minimum (Rn), and, if required by section 3.5.3 of this appendix, average (Ra) test load sizes or water fill levels.

3.7.2 Measure the amount of electrical energy consumed by the clothes washer to heat the rinse water only, including all deep and spray rinses, for the maximum (ERx), minimum (ERn), and, if required by section 3.5.3 of this appendix, average (ERa) test load sizes or water fill levels.

* * * * *

4.2.3 Water factor. Calculate the water factor, WF, expressed in gallons per cycle per cubic foot (or liters per cycle per liter), as:

WF = QT/C

where:

QT = As defined in section 4.2.2 of this appendix.

C = As defined in section 3.1.6 of this appendix.

* * * * *

4.4 Modified energy factor. Calculate the modified energy factor, MEF, expressed in cubic feet per kilowatt-hour per cycle (or liters per kilowatt-hour per cycle) and defined as:

MEF = C/(ETE + DE)

where:

C = As defined in section 3.1.6 of this appendix.

ETE = As defined in section 4.1.7 of this appendix.

DE = As defined in section 4.3 of this appendix.

* * * * *

3. Appendix J2 to subpart B of part 430 is amended by revising sections 3.8.2.6, 3.8.3.2, 3.8.3.4, 4.2.4, 4.2.5, 4.2.12, 4.2.13, 4.5, and 4.6 to read as follows:

Appendix J2 to Subpart B of Part 430—Uniform Test Method for Measuring the Energy Consumption of Automatic and Semi-Automatic Clothes Washers

* * * * *

3.8.2.6 Apply the RMC correction curve described in section 7 of appendix J3 to this subpart to calculate the corrected remaining moisture content, RMCcorr, expressed as a percentage as follows:

RMCcorr = (A × RMCx + B) × 100%

where:

A and B are the coefficients of the RMC correction curve as defined in section 6.1 of appendix J3 to this subpart.

RMCx = As defined in section 3.8.2.5 of this appendix.

* * * * *

3.8.3.2 Apply the RMC correction curve described in section 7 of appendix J3 to this subpart to calculate the corrected remaining moisture content for Cold Wash/Cold Rinse, RMCCOLD,corr, expressed as a percentage, as follows:

RMCCOLD,corr = (A × RMCCOLD + B) × 100%

where:

A and B are the coefficients of the RMC correction curve as defined in section 6.1 of appendix J3 to this subpart.

RMCCOLD = As defined in section 3.8.3.1 of this appendix.

* * * * *

3.8.3.4 Apply the RMC correction curve described in section 7 of appendix J3 to this subpart to calculate the corrected remaining moisture content for Warm Wash/Warm Rinse, RMCWARM,corr, expressed as a percentage, as follows:

RMCWARM,corr = (A × RMCWARM + B) × 100%

where:

A and B are the coefficients of the RMC correction curve as defined in section 6.1 of appendix J3 to this subpart.

RMCWARM = As defined in section 3.8.3.3 of this appendix.

* * * * *

4.2.4 Per-cycle water consumption for Warm Wash/Warm Rinse. Calculate the maximum, average, and minimum total water consumption, expressed in gallons per cycle (or liters per cycle), for the Warm Wash/Warm Rinse cycle and defined as:

Qwwmax = [Hwwx + Cwwx]

Qwwavg = [Hwwa + Cwwa]

Qwwmin = [Hwwn + Cwwn]

where:

Hwwx, Cwwx, Hwwa, Cwwa, Hwwn, and Cwwn are defined in section 3.6 of this appendix.

4.2.5 Per-cycle water consumption for Cold Wash/Cold Rinse. Calculate the maximum, average, and minimum total water consumption, expressed in gallons per cycle (or liters per cycle), for the Cold Wash/Cold Rinse cycle and defined as:

Qcmax = [Hcx + Ccx]

Qcavg = [Hca + Cca]

Qcmin = [Hcn + Ccn]

where:

Hcx, Ccx, Hca, Cca, Hcn, and Ccn are defined in section 3.7 of this appendix.

* * * * *

4.2.12 Water factor. Calculate the water factor, WF, expressed in gallons per cycle per cubic foot (or liters per cycle per liter), as:

WF = QcT/C

where:

QcT = As defined in section 4.2.10 of this appendix.

C = As defined in section 3.1.7 of this appendix.

4.2.13 Integrated water factor. Calculate the integrated water factor, IWF, expressed in gallons per cycle per cubic foot (or liters per cycle per liter), as:

IWF = QT/C

where:

QT = As defined in section 4.2.11 of this appendix.

C = As defined in section 3.1.7 of this appendix.

* * * * *

4.5 Modified energy factor. Calculate the modified energy factor, MEF, expressed in cubic feet per kilowatt-hour per cycle (or liters per kilowatt-hour per cycle) and defined as:

MEF = C/(ETE + DE)

where:

C = As defined in section 3.1.7 of this appendix.

ETE = As defined in section 4.1.7 of this appendix.

DE = As defined in section 4.3 of this appendix.

4.6 Integrated modified energy factor. Calculate the integrated modified energy factor, IMEF, expressed in cubic feet per kilowatt-hour per cycle (or liters per kilowatt-hour per cycle) and defined as:

IMEF = C/(ETE + DE + ETLP)

where:

C = As defined in section 3.1.7 of this appendix.

ETE = As defined in section 4.1.7 of this appendix.

DE = As defined in section 4.3 of this appendix.

ETLP = As defined in section 4.4 of this appendix.

* * * * *

[FR Doc. 2015-25963 Filed 10-15-15; 8:45 am]

BILLING CODE 6450-01-P